DEPARTMENT OF JUSTICE

Notice of Lodging of Consent Decree Under the Clean Air Act

Notice is hereby given that, on September 7, 2004, a proposed Consent Decree in United States v. Apache Nitrogen Products, Inc., Civil Action No. 04-448 TUC DCB, was lodged with the United States District Court for the District of Arizona.

In this action, the United States brought suit against Apache Nitrogen Products (“ANP”) pursuant to section 113(b) of the Clean Air Act (“CAA”), 42 U.S.C. 7413(b), and 40 CFR 60.11(d) for civil penalties and injunctive relief associated with ANP's violation of EPA's New Source Performance Standards. The complaint alleges that on numerous occasions between 1999 and 2002, ANP violated the NSPS by failing to maintain and operate its nitric acid facility, located in St. David, Arizona, in a manner consistent with good air pollution control practice for minimizing emissions.

Under the terms of the Consent Decree filed simultaneously with the complaint, ANP agrees to pay a $40,000 civil penalty and to implement certain injunctive relief provisions. Specifically, in order to control NOX below the NSPS emission standard, Apache will operate a newly installed advanced NOX emissions control device at its facility. In addition, ANP agrees to: (1) Comply with the EPA approved operation and maintenance plan for the H2O2 System; (2) submit any proposed revisions to the H2O2 System plan to the EPA; (3) comply with EPA requested revisions to the H2O2 System plan; (4) provide training to all employees involving in operating and maintaining the H2O2 System and maintain the plans in an area accessible to employees. If ANP fails to abide by the provisions of the Consent Decree, ANP will be subject to stipulated penalties.

The Department of Justice will receive, for a period of thirty (30) days from the date of this publication, comments relating to the Consent Decree. Comments should be addressed to the Assistant Attorney General, Environment and Natural Resources Division, P.O. Box 7611, U.S. Department of Justice, Washington, DC 20044-7611, and should refer to United States v. Apache Nitrogen Products, Inc., D.J. Ref. #90-5-2-1-1438/1.

The Consent Decree may be examined at the Office of the United States Attorney, 405 W. Congress Street, Suite 4800, Tucson, AZ 85701-5040. During the public comment period, the Consent Decree, may also be examined on the following Department of Justice Web site http://www.usdoj.gov/enrd/open.html. A copy of the Consent Decree may also be obtained by mail from the Consent Decree Library, PO Box 7611, U.S. Department of Justice, Washington, DC 20044-7611 or by faxing a request to Tonia Fleetwood, fax no. (202) 514-0097, phone confirmation number (202) 514-1547. In requesting a copy from the Consent Decree Library, please enclose a check in the amount of $5.00 (25 cents per page reproduction cost) for the Consent Decree, payable to the U.S. Treasury.

Ellen M. Mahan,
Assistant Chief, Environmental Enforcement Section, Environment and Natural Resources Division.

[FR Doc. 04-21312 Filed 9-22-04; 8:45 am]

BILLING CODE 4410-15-M